DEPARTMENT OF COMMERCE

Foreign-Trade Zones Board

[S-21-2019]

Foreign-Trade Zone 40—Cleveland, Ohio, Application for Subzone Expansion, Swagelok Company, Ravenna, Ohio

An application has been submitted to the Foreign-Trade Zones (FTZ) Board by the Cleveland Cuyahoga County Port Authority, grantee of FTZ 40, requesting an expansion of Subzone 40I on behalf of Swagelok Company (Swagelok). The application was submitted pursuant to the provisions of the Foreign-Trade Zones Act, as amended (19 U.S.C. 81a-81u), and the regulations of the FTZ Board (15 CFR part 400). It was formally docketed on February 19, 2019.

Subzone 40I currently consists of the following sites: Site 1 (70 acres) 29500 Solon Rd & 29495 FA Lennon Dr., Solon, Cuyahoga County; Site 2 (13.3 acres) 31400 Aurora Rd., Solon, Cuyahoga County; Site 3 (5 acres) 29500 Ambina Dr., Solon, Cuyahoga County; Site 4 (7.82 acres) 26651 & 26653 Curtiss Wright Parkway, Willoughby Hills, Cuyahoga County; Site 5 (16.8 acres) 318,348, & 358 Bishop Rd., Highland Heights, Cuyahoga County; Site 6 (23.95 acres) 6050, 6060, & 6100 Cochran Rd., Solon, Cuyahoga County; Site 7 (3 acres) 29900 Solon Industrial Parkway, Solon, Cuyahoga County; Site 8 (5 acres) 32550 Old South Miles Rd., Solon, Cuyahoga County; and, Site 9 (9.5 acres) 15400 Foltz Parkway, Strongsville, Cuyahoga County.

The proposed expanded subzone would include the following additional site: Site 10 (8.87 acres), 935 N Freedom St., Ravenna, Portage County. Because the proposed site is outside FTZ 40's Alternative Site Framework (ASF) service area, authorization of the expanded subzone would not be under the ASF. No authorization for expanded production activity has been requested at this time. The proposed subzone would be subject to the existing activation limit of FTZ 40.

In accordance with the FTZ Board's regulations, Elizabeth Whiteman of the FTZ Staff is designated examiner to review the application and make recommendations to the Executive Secretary.

Public comment is invited from interested parties. Submissions shall be addressed to the FTZ Board's Executive Secretary at the address below. The closing period for their receipt is April 8, 2019. Rebuttal comments in response to material submitted during the foregoing period may be submitted during the subsequent 15-day period to April 22, 2019.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Elizabeth Whiteman at Elizabeth.Whiteman@trade.gov or (202) 482-0473.

Dated: February 19, 2019.
Andrew McGilvray,
Executive Secretary.

[FR Doc. 2019-03235 Filed 2-25-19; 8:45 am]

BILLING CODE 3510-DS-P